SMALL BUSINESS ADMINISTRATION

[Disaster Declaration #15798 and #15799; California Disaster Number CA-00295]

Presidential Declaration Amendment of a Major Disaster for the State of California

AGENCY: U.S. Small Business Administration.

ACTION: Amendment 3.

SUMMARY: This is an amendment of the Presidential declaration of a major disaster for the State of California (FEMA-4407-DR), dated 11/12/2018.

Incident: Wildfires.

Incident Period: 11/08/2018 through 11/25/2018.

DATES: Issued on 01/30/2019.

Physical Loan Application Deadline Date: 02/15/2019.

Economic Injury (EIDL) Loan Application Deadline Date: 08/12/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of California, dated 11/12/2018, is hereby amended to extend the deadline for filing applications for physical damages as a result of this disaster to 02/15/2019.

All other information in the original declaration remains unchanged.

(Catalog of Federal Domestic Assistance Number 59008)

Rafaela Monchek,
Acting Associate Administrator for Disaster Assistance.

[FR Doc. 2019-01860 Filed 2-8-19; 8:45 am]

BILLING CODE 8025-01-P